DEPARTMENT OF AGRICULTURE

Food and Nutrition Service

Request for Information: Food Price Data for State of Hawaii

AGENCY: Food and Nutrition Service (FNS), USDA.

ACTION: Notice.

SUMMARY: The U.S. Department of Agriculture's (USDA) Food and Nutrition Service (FNS) requests comments from the public—including the food industry and research community—to help inform future policy and decisions about potentially updating Thrifty Food Plan (TFP) cost estimates for the State of Hawaii. Specifically, FNS invites comments and ideas about food price data for the State of Hawaii—including communities in the State outside of the County of Honolulu—that may be available, potentially accessible to FNS, and of sufficient quality, format, sample size, and recent period to be used potentially by FNS to make cost adjustments for the State of Hawaii to the TFP pursuant to section 3(u)(2) of the Food and Nutrition Act of 2008, as amended. Comments must be received on or before March 4, 2024.

DATES: Written comments must be received on or before March 4, 2024.

ADDRESSES: Comments may be sent to: Kevin Meyers Mathieu, Economic Advisor, Nutrition Guidance and Analysis Division, Center for Nutrition Policy and Promotion, Food and Nutrition Service, U.S. Department of Agriculture, 1320 Braddock Place, Fourth Floor, Alexandria, VA 22314. Comments may also be submitted via email to fns.foodplans@usda.gov. Comments will also be accepted through the Federal eRulemaking Portal. Go to http://www.regulations.gov and follow the online instructions for submitting comments electronically. All comments received in response to this notice will be a matter of public record.

FOR FURTHER INFORMATION CONTACT: Requests for additional information or copies of this information collection should be directed to Kevin Meyers Mathieu, Economic Advisor, Nutrition Guidance and Analysis Division, Center for Nutrition Policy and Promotion, Food and Nutrition Service, U.S. Department of Agriculture, at 703-946-7619.

SUPPLEMENTARY INFORMATION: FNS makes this request with the goal of maximizing the range of food price data specific to communities in the State of Hawaii outside of the County of Honolulu—that is, the Neighbor Islands—that may become accessible to the Agency and available for the Agency to assess in terms of feasibility to use for updating TFP cost estimates in Hawaii. Data should be of a similar quality, format, and sample size to data used for reevaluating the TFP for the mainland United States in August 2021 (Thrifty Food Plan, 2021, FNS-916) ¹ and making cost adjustments for Alaska and Hawaii in July 2023 (Thrifty Food Plan Cost Estimates for Alaska and Hawaii, FNS-989).²

¹ The Thrifty Food Plan, 2021 report and supplemental materials are available at: https://www.fns.usda.gov/cnpp/thrifty-food-plan-2021.

² The Thrifty Food Plan Cost Estimates for Alaska and Hawaii report and supplemental materials are available at: https://www.fns.usda.gov/cnpp/tfp-akhi.

The TFP represents a healthy, practical, cost-conscious diet for a family of four, and its cost forms the basis for Supplemental Nutrition Assistance Program (SNAP) benefit levels. Through a rigorous and transparent process, USDA used updated food price data to recalculate the cost estimates of the TFP for Alaska and Hawaii. This update ensured SNAP participants in Alaska and Hawaii have a data-driven benefit amount that is equitable to the benefits provided to people living in the 48 contiguous States and DC so they can afford nutritious food essential for health and well-being.

The updated cost estimates for Alaska and Hawaii were calculated in alignment with the existing statutory and regulatory framework. Namely, TFP costs for Alaska and Hawaii were calculated by comparing food prices in the 48 contiguous States and DC to those in Anchorage and Honolulu, respectively. The Anchorage TFP cost is further adjusted to reflect food prices throughout urban and rural areas of the State of Alaska, as per statute. In contrast, the Honolulu TFP cost, as per regulation, is used as the basis for SNAP benefits throughout the entire State of Hawaii. Evidence suggests that Honolulu was originally used because it was the only location in the State where the Bureau of Labor Statistics routinely collected food price information at the time. The availability of food price data in the State of Hawaii—including communities in the State outside of the County of Honolulu—of sufficient quality, format, sample size, and recent period may motivate a reexamination of the regulatory language that stipulates Honolulu as the basis for the Hawaii TFP cost estimate. The features of the data may also contribute to potential future decisions on a preferred methodology that could be used to calculate a Hawaii TFP cost using food price data from throughout the State of Hawaii.

List of Questions for Commenters

The Agency requests responses to the following questions:

Question 1: How does the cost of food differ between the Island of Oahu (i.e., the County of Honolulu) and the Neighbor Islands (i.e., all other areas of the State of Hawaii)? To what extent are any differences in the cost of food driven by differences in prices for identical foods and beverages versus differences in other factors (e.g., region-specific food choices and/or availability)?

Question 2: What benefits and/or consequences are experienced by SNAP participants residing on the Neighbor Islands as a result of the Agency's use of food prices in Honolulu as the basis for calculating the SNAP maximum benefit amounts in the State of Hawaii?

Question 3: How would the benefits and/or consequences described in question 2 change if the Agency implemented an alternative approach for calculating the SNAP maximum benefit amount in Hawaii that uses food price data from all areas of the State of Hawaii?

Question 4: What data are available for the Agency's use in calculating a Hawaii TFP cost that uses food prices from throughout the State of Hawaii?

Question 5: For any data source(s) identified under question 4:

(a) Can these data be used to quantify price differences for identical foods and beverages as described in question 1?

(b) To what extent are the data representative of the State of Hawaii or any specific geographies, regions, and/or communities within the State? Are there any areas of the State of Hawaii that are not represented in the data?

(c) Are these data also collected outside of the State of Hawaii? If so, where? To what extent are the data representative of the other locations in which they are collected?

(d) At what level of geographic aggregation are the data available (e.g., State-level, County-level, store-level)?

(e) At what unit of analysis are the data available? Specifically, do the data provide prices for individual Universal Product Codes (UPCs, also called barcodes) or for categories of foods and beverages? If the data are reported at the category-level, how were the categories constructed?

(f) Do the data include prices for food items that do not have barcodes (e.g., fresh fruits, vegetables, bakery items, meat, or fish that are sold on a per pound, per ounce or per unit basis)?

(g) What is the sample size of foods and beverages (measured using the unit of analysis described above) in the data?

(h) To what extent do the foods and beverages included in the data reflect the foods and beverages in the TFP market basket? Are there any food and beverage categories that are excluded from or underrepresented in the data?

(i) By whom are the data collected and reported? For example, the data might be comprised of households self-reporting food and beverage acquisitions, in-store price quotes collected by surveyors, or sales records maintained by retailers.

(j) Do the data represent prices quoted by the retailer (i.e., sticker price in the store) or prices that the consumer actually paid (accounting for loyalty card discounts, coupons, etc.)?

(k) What is the sample size of reporting units (e.g., number of households, number of stores)?

(l) If the data are collected at the household-level (i.e., from a household survey) to what extent are the households that are included representative of the overall population in Hawaii? Are sampling weights available?

(m) What store types are represented in the data (e.g., grocery stores, mass merchandisers, drug stores, club stores, convenience stores)?

(n) When were the data collected? If the data are collected on a recurring basis, with what frequency are they collected? If the data are collected on a continuous basis, with what frequency are they reported?

(o) Do the data also include information on factors other than food prices (e.g., dietary intakes)?

(p) What quality assurance processes have the data undergone? To what extent can the Agency and the public trust that the data are accurate? For example, are units checked for accurate conversion to a common unit (e.g., packages to ounces) and are outlier prices checked for accuracy?

(q) Have these data been analyzed in the past? If so, how?

(r) Are there any known limitations or considerations when using the data?

(s) Are the data publicly available or are they proprietary/restricted access? If they are proprietary/restricted access, to what extent could the Agency release them to the public to enable reproduction of any related analyses?

(t) What is the approximate cost of accessing the data? Does data access require a contractual agreement or access to a specialized data hosting platform?

(u) In what format are the data available? Are the data machine readable?

Disclaimers: This is a Request for Information (RFI). This is not a Request for Proposals or a Request for Applications and is not to be construed as a commitment by the U.S. Government to issue any solicitation or Notice of Funding Opportunity, or ultimately award a contract or assistance agreement based on this RFI, or to pay for any information voluntarily submitted as a result of this request. The U.S. Department of Agriculture (USDA) posts its competitive business opportunities on www.grants.gov. It is the potential offeror's/applicant's responsibility to monitor these sites for announcements of new opportunities. Please note that responding to this RFI will not give any advantage to any organization or individual in any subsequent competition. Responses may be used by USDA without restriction or limitation, therefore proprietary information should not be sent.

Furthermore, this RFI does not mean and should not be construed to suggest that FNS will update TFP cost estimates for the State of Hawaii in the future. The current TFP cost estimate for Hawaii was calculated in alignment with the existing statutory and regulatory framework. Namely, the TFP cost for Hawaii was calculated by comparing food prices in the 48 contiguous States and DC to those in Honolulu. FNS seeks information about potentially available food price data for the State of Hawaii outside of Honolulu to properly assess the feasibility of potentially pursuing an update to the TFP cost estimate for the State of Hawaii that could potentially incorporate such food price data should such an update be permissible in the future. If sufficient food price data sources are identified and such data were to become available to FNS, the Agency would take such information into account as it considers the range of factors relevant to potentially pursuing an update to the TFP cost estimates for the State of Hawaii, but identifying food price data alone, whether as a result of an RFI response or not, is not in and of itself determinative for future cost estimate updates.

Collection of Information Requirements: This document does not impose information collection requirements, that is, reporting, recordkeeping or third-party disclosure requirements. However, this document does contain a general solicitation of comments in the form of a request for information. In accordance with implementing regulations of the Paperwork Reduction Act of 1995 (PRA), specifically 5 CFR 1320.3(h)(4), this general solicitation is exempt from the PRA. Facts or opinions submitted in response to general solicitations of comments from the public, published in the Federal Register or other publications, regardless of the form or format thereof, provided that no person is required to supply specific information pertaining to the commenter other than that necessary for self-identification, as a condition of the agency's full consideration, are not generally considered information collections and therefore not subject to the PRA.

Cynthia Long,
Administrator, Food and Nutrition Service.

[FR Doc. 2024-00997 Filed 1-18-24; 8:45 am]

BILLING CODE 3410-30-P